DEPARTMENT OF THE INTERIOR

Bureau of Land Management

[NV-952-00-1420-BJ]

Filing of Plats of Survey; Nevada

AGENCY: Bureau of Land Management, Interior.

ACTION: Notice.

SUMMARY: The purpose of this notice is to inform the public and interested State and local government officials of the filing of Plats of Survey in Nevada.

EFFECTIVE DATES: Filing is effective at 10:00 a.m. on the dates indicated below.

FOR FURTHER INFORMATION CONTACT: David J. Clark, Chief, Branch of Geographic Services, Bureau of Land Management (BLM), Nevada State Office, 1340 Financial Blvd., P.O. Box 12000, Reno, Nevada 89520, 775-861-6541.

SUPPLEMENTARY INFORMATION: 1. The Plat of Survey of the following described lands was officially filed at the Nevada State Office, Reno, Nevada on February 10, 2000:

The plat, representing the entire survey record of a metes-and-bounds survey in section 1, Township 1 South, Range 68 East, Mount Diablo Meridian, Nevada, Under Group No. 781, was accepted February 8, 2000.

This survey was executed to meet certain administrative needs of the Bureau of Land Management and Lincoln County, Nevada.

2. The Plat of Survey of the following described lands was officially filed at the Nevada State Office, Reno, Nevada on March 17, 2000:

The plat representing the dependent resurvey of a portion of the subdivisional lines, and the subdivision of section 14, and a metes-and-bounds survey of Lot 10 in section 14, Township 20 North, Range 20 East, Mount Diablo Meridian, Nevada, under Group No. 786 was accepted March 17, 2000.

This survey was executed to meet certain administrative needs of the Bureau of Land Management and Holy Cross Catholic Community.

3. The above-listed surveys are now the basic record for describing the lands for all authorized purposes. These surveys have been placed in the open files in the BLM Nevada State Office and are available to the public as a matter of information. Copies of the surveys and related field notes may be furnished to the public upon payment of the appropriate fees.

Dated: April 20, 2000.
David J. Clark,
Chief Cadastral Surveyor, Nevada.

[FR Doc. 00-11044 Filed 5-2-00; 8:45 am]

BILLING CODE 4310-HC-P